DEPARTMENT OF TRANSPORTATION

Federal Aviation Administration

[Docket No. FAA-2003-14824; Airspace Docket No. 00-AWA-3]

RIN 2120-AA66

Designation of Oceanic Airspace

AGENCY: Federal Aviation Administration (FAA), DOT.

ACTION: Notice of Provision of Air Traffic Services in Oceanic Airspace.

SUMMARY: This action corrects the Notice of Provision of Air Traffic Services in Oceanic Airspace, published in the Federal Register on April 3, 2003. This notice informs airspace users of the type of air traffic control (ATC) service provided in the oceanic airspace controlled by the United States of America.

FOR FURTHER INFORMATION CONTACT: Terry Brown, Airspace and Rules Division, ATA-400, Office of Air Traffic Airspace Management, Federal Aviation Administration, 800 Independence Avenue, SW., Washington, DC 20591; telephone: (202) 267-8783.

SUPPLEMENTARY INFORMATION: On April 3, 2003, Docket No. FAA-2003-14824; Airspace Docket No. 00-AWA-3, Federal Register Document 03-8139, was published in the Federal Register informing airspace users of the type of ATC service provided in oceanic airspace controlled by the United States (68 FR 16340). The notice inadvertently contained two minor errors in the text. This action corrects those errors.

Correction to the Notice

Accordingly, pursuant to the authority delegated to me, the Notice of Provision of Air Traffic Control, as published in the Federal Register on April 3, 2003 (68 FR 16340); Federal Register Document 03-8139, is corrected as follows:

[Correction]

Page 16341, third column, second line, under the heading Miami Oceanic CTA/FIR, Aircraft operating in the Miami Oceanic CTA/FIR can expect to receive ATC services associated with the following types of airspace areas and associated altitudes: change “Class” to read “Class E.”

Page 16342, first column, fourth line, fourth word under the heading Oakland/Nauru UTA Airspace Area Delegated to Oakland Center Above FL245: change “ATA” to read “ATC.”

Issued in Washington, DC, on May 2, 2003.
Reginald C. Matthews,
Manager, Airspace and Rules Division.

[FR Doc. 03-11639 Filed 5-8-03; 8:45 am]

BILLING CODE 4910-13-M